DEPARTMENT OF TRANSPORTATION

Federal Aviation Administration

[Summary Notice No. PE-2002-44]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption part 11 of Title 14, Code of Federal Regulations (14 CFR), this notice contains a summary of certain petitions seeking relief from specified requirements of 14 CFR, dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before August 14, 2002.

ADDRESSES: Send comments on any petition to the Docket Management System, U.S. Department of Transportation, Room Plaza 401, 400 Seventh Street, SW., Washington, DC 20590-0001. You must identify the docket number FAA-200X-XXXX at the beginning of your comments. If you wish to receive confirmation that FAA received your comments, include a self-addressed, stamped postcard.

You may also submit comments through the Internet to http://dms.dot.gov. You may review the public docket containing the petition, any comments received, and any final disposition in person in the Dockets Office between 9 a.m. and 5 p.m., Monday through Friday, except Federal holidays. The Dockets Office (telephone 1-800-647-5527) is on the plaza level of the NASSIF Building at the Department of Transportation at the above address. Also, you may review public dockets on the Internet at http://dms.dot.gov.

FOR FURTHER INFORMATION CONTACT: Vanessa Wilkins, Office of Rulemaking (ARM-1), Federal Aviation Administration, 800 Independence Avenue, SW., Washington, DC 20591. Phone: (202) 267-8029.

This notice is published pursuant to 14 CFR 11.85 and 11.91.

Issued in Washington, DC, on July 12, 2002.
Richard McCurdy,
Acting Assistant Chief Counsel for Regulations,

Petitions for Exemption

Docket No.: FAA-2002-11704.

Petitioner: Cirrus Design Corporation.

Section of 14 CFR Affected: 14 CFR 45.25(b)(2) and 45.29(b)(1), (c), (d) and (e).

Description of Relief Sought: To permit Cirrus to operate aircraft “anywhere in the Duluth Class D airspace and within the Duluth Approach Control airspace between 190 degree and 090 degree radials from the DLH VOR, north and west, up to including 14,000 feet MSL” without those aircraft displaying marks that meet the location and size requirements of part 45.

Docket No.: FAA-2002-12341.

Petitioner: EMBRAER—Empresa Brasileira de Aeronáutica S.A.

Section of 14 CFR Affected: 14 CFR part 36, appendix C, section C36.9(e)(1).

Description of Relief Sought: To permit EMBRAER to use the 1-g stall speed used for 14 CFR part 25 airworthiness certification for part 39 noise certification for the approach reference and test limitations on the EMBRAER EMB145XR model airplane.

Dispositions of Petitions

Docket No.: FAA-2001-8741.

Petitioner: Cessna Aircraft Company.

Section of 14 CFR Affected: 14 CFR 91.409(b).

Description of Relief Sought/Disposition: To permit the owners and operators of C-172R, C-172S, C-182S, C-208 and C-208B airplanes to use Cessna's applicable PhaseCard Inspection Program rather than completing the required 100-hour inspection. Grant, 06/07/2002, Exemption No. 6901C.

Docket No.: FAA-2002-11750.

Petitioner: DalFort Aerospace, L.P.

Section of 14 CFR Affected: 14 CFR 145.45(f).

Description of Relief Sought/Disposition: To permit DalFort to make its inspection procedures manual (IPM) available electronically to its supervisory and inspection personnel rather than give a copy to each. Grant, 06/13/2002, Exemption No. 7292A.

Docket No.: FAA-2002-11752.

Petitioner: Peninsula Airways, Inc., dba PenAir.

Section of 14 CFR Affected: 14 CFR 91.411(b) and 91.413(c).

Description of Relief Sought/Disposition: To allow PenAir to perform ATC transponder tests and inspections and altimeter system and altimeter reporting equipment tests and inspections for its 14 CFR part 121 aircraft maintained under its continuous airworthiness maintenance program. PenAir is also granted relief to perform similar tests and inspections on its 14 CFR part 135 aircraft maintained under an approved aircraft inspection program. Grant 05/16/2002, Exemption No. 7770.

Docket No.: FAA-2002-11764.

Petitioner: Executive Jet Management, Inc.

Section of 14 CFR Affected: 14 CFR 145.45(f).

Description of Relief Sought/Disposition:To permit EJM to assign copies of its IPM to key individuals within its departments and key areas within its shop and place an adequate number of copies of its IPM for access to all employees, rather than give a copy if the IPM to each of its supervisory and inspection personnel. Grant, 06/13/2002, Exemption No. 7813.

Docket No.: FAA-2002-11837.

Petitioner: F.S. Repair Services, Inc.

Section of 14 CFR Affected:14 CFR 145.45(f).

Description of Relief Sought/Disposition:To permit FSRS to place and maintain its IPM in fixed locations within its facility rather than give a copy of its IPM to each of its supervisory and inspection personnel. Grant, 06/13/2002, Exemption No. 7814.

Docket No.: FAA-2002-11857.

Petitioner: L-3 Communications Integrated Systems.

Section of 14 CFR Affected:14 CFR 145.45(f).

Description of Relief Sought/Disposition:To permit L-3 to make its IPM available electronically to its supervisory, inspection, and other personnel, rather than give a paper copy of the IPM to each of its supervisory and inspection personnel. Grant, 06/13/2002, Exemption No. 7816.

Docket No.: FAA-2002-11868.

Petitioner: The Boeing Company.

Section of 14 CFR Affected:14 CFR 25.365(e).

Description of Relief Sought: To permit a time-limited exemption for a period of time not to exceed three years to allow continued delivery of Model 767 airplanes, both in production and retrofit, which incorporate enhanced security flight deck doors meeting the requirements of 14 CFR 25.795(a)(1) and (2). Petition Withdrawn, 05/28/2002.

Docket No.: FAA-2002-11926.

Petitioner: Minneapolis Community & Technical College.

Section of 14 CFR Affected: 14 CFR 65.17(a), 65.19(b), and 65.75.

Description of Relief Sought/Disposition:To permit MCTC to (1) administer oral and practical tests to its students at times and places identified in its FAA-approved operations handbook, (2) allow students to apply for retesting within 30 days after failure without presenting a signed statement certifying additional instruction in the failed area, (3) administer the aviation mechanic general written test immediately after students successfully complete the general curriculum but before they meet the experience requirements of § 65.77, and (4) administer oral and practical tests as an integral part of the AMT educational process rather than upon students' successful completion of the mechanic written tests. Grant, 05/20/2002, Exemption No. 7771.

Docket No.: FAA-2002-11942.

Petitioner: The Boeing Company.

Section of 14 CFR Affected: 14 CFR 47.69(b).

Description of Relief Sought/Disposition: To permit Boeing to conduct flight testing and sales demonstrations outside the United States with its Dealer Aircraft Registration Certificates and Temporary Registration Numbers. Grant, 06/07/2002, Exemption No. 6627A.

Docket No.: FAA-2002-11990.

Petitioner: Air Transport International, L.L.C.

Section of 14 CFR Affected: 14 CFR 121.310(d)(4).

Description of Relief Sought/Disposition: To permit ATI to operate its McDonnell Douglas DC-8 airplanes in passenger-carrying operations without a cockpit control device for each emergency light. Grant, 06/13/2002, Exemption No. 7815.

Docket No.: FAA-2002-12164.

Petitioner: The Goodyear Tire & Rubber Company.

Section of 14 CFR Affected: 14 CFR 145.45(f).

Description of Relief Sought/Disposition: To permit Goodyear to maintain a copy of its repair station IPM at fixed locations within its facilities, rather than give a copy of the manual to each of its supervisors and inspectors. Grant, 05/31/2002, Exemption No. 5543E.

Docket No.: FAA-2002-12246.

Petitioner: Midcoast-Little Rock, Inc.

Section of 14 CFR Affected: 14 CFR 145.45(f).

Description of Relief Sought/Disposition: To permit Midcoast to place copies of its IPM in strategic locations throughout its repair station rather than giving a copy of the IPM to each of its supervisory and inspection personnel. Grant, 06/13/2002, Exemption No. 7277A.

[FR Doc. 02-18022 Filed 7-24-02; 8:45 am]

BILLING CODE 4910-13-P